DEPARTMENT OF ENERGY

Federal Energy Regulatory Commission

Combined Notice of Filings

Take notice that the Commission has received the following Natural Gas Pipeline Rate and Refund Report filings:

Filings in Existing Proceedings

Docket Numbers: RP14-964-001.

Applicants: Gulf Shore Energy Partners, LP.

Description: Gulf Shore Energy Show Cause Compliance filing.

Filed Date: 6/10/14.

Accession Number: 20140610-5175.

Comments Due: 5 p.m. ET 6/23/14.

Docket Numbers: RP14-964-002.

Applicants: Gulf Shore Energy Partners, LP.

Description: Gulf Shore Energy Show Cause Compliance filing-Refile.

Filed Date: 6/10/14.

Accession Number: 20140610-5231.

Comments Due: 5 p.m. ET 6/23/14.

The filings are accessible in the Commission's eLibrary system by clicking on the links or querying the docket number.

Any person desiring to protest in any of the above proceedings must file in accordance with Rule 211 of the Commission's Regulations (18 CFR 385.211) on or before 5:00 p.m. Eastern time on the specified comment date.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2014.
Nathaniel J. Davis, Sr.,
Deputy Secretary.

[FR Doc. 2014-14697 Filed 6-23-14; 8:45 am]

BILLING CODE 6717-01-P